DEPARTMENT OF TRANSPORTATION

Federal Aviation Administration

Flight Instructor Refresher Clinic Approvals

AGENCY: Federal Aviation Administration (FAA), DOT.

ACTION: Notice of policy change.

SUMMARY: This notice is provided to inform the aviation community that effective April 30, 2004, the FAA's General Aviation And Commercial Division, AFS-800, will no longer grant any new Flight Instructor Refresher Clinic (FIRC) approvals. After that date, only those FIRC providers holding a current FAA approval will be considered for renewal. This policy change does not effect Special Preparation Courses approved under 14 CFR 141.11(b)(2)(ii). The FAA reserves the right to approve new FIRC programs as future demands dictate. Should such a need arise the FAA will issue a new Federal Register notice.

FOR FURTHER INFORMATION CONTACT: Mike Brown, Certification and Flight Training Branch, AFS-840, FAA, 800 Independence Ave., SW., Washington, DC 20591; telephone (202) 267-7653; fax (202) 267-5094; or e-mail michael.w.brown@faa.gov.

Background: Since the advent of Internet, or Web-based FIRCs, the demand for traditional (stand-up) and at-distance renewal programs has steadily declined. This has led to a marked reduction in requests for new FIRC program approvals. Moreover, the current Web-based FIRC providers have demonstrated the ability to meet the demand of certified flight instructors. The FAA estimates that in 2003 alone, over 8,000 certified flight instructor renewals were completed though Web-based FIRCs.

These factors, coupled with the ease and availability of existing certificate renewal methods (Web-based and at distance learning programs, the existing cadre of stand-up and Internet providers, practical test, etc.), has led the FAA to issue this notice. Further, the FAA asserts that existing methods for renewing certified flight instructor certificates are adequate to meet the current and future demands of the aviation training community. Therefore, this policy change will become effective on April 30, 2004.

Issued in Washington, DC on March 11, 2004.
Anne Graham,
Acting Manager, General Aviation and Commercial Division.

[FR Doc. 04-6149 Filed 3-18-04; 8:45 am]

BILLING CODE 4910-13-P